DEPARTMENT OF ENERGY

Idaho Operations Office; Industry Materials of the Future (Industry Specific and Crosscutting Technologies)

AGENCY: Idaho Operations Office, DOE

ACTION: Notice of availability of financial assistance solicitation.

SUMMARY: The U.S. Department of Energy, Idaho Operations Office is seeking applications for cost-shared research and development of materials or materials processing methods, in accordance with the Program Plan for the Industrial Materials for the Future Program, available at www.oit.doe.gov. This will be a national effort to research, design, develop, engineer, and test new and improved materials to achieve improvements in energy efficiency, emissions and waste reduction, productivity, product quality, and global competitiveness.

DATES: The issuance date of Solicitation Number DE-PS07-01ID13985 will be on April 26, 2001. The deadline for receipt of applications will be approximately on May 31, 2001.

ADDRESSES: The solicitation in its full text will be available on the Internet at the following URL address: http://www.id.doe.gov/doeid/PSD/proc-div.html or http://e-center.doe.gov. Applications should be submitted to: Seb Klein, Procurement Services Division, U.S. Department of Energy, Idaho Operations Office, 850 Energy Drive, Mail Stop 1221, Idaho Falls, Idaho 83401-1563.

FOR FURTHER INFORMATION CONTACT: Seb Klein, Contract Specialist, kleinsm@id.doe gov.

SUPPLEMENTARY INFORMATION: The statutory authority for the program is the Federal Non-Nuclear Energy Research and Development Act of 1974 (P.L. 93-577). The Catalog of Federal Domestic Assistance (CFDA) Number for this program is 81.086.

R.J. Hoyles,
Director, Procurement Services Division.

[FR Doc. 01-11520 Filed 5-7-01; 8:45 am]

BILLING CODE 6450-01-P